FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
17090N | Inter-Connect Transportation, Inc., 8901 S. La Cienega Blvd., Suite 210, Inglewood, CA 90301 | December 8, 2001.
6313N | Puerto Rico Freight Systems, Inc., P. O. Box 9081, Building 11, International Mercantile Center, Guaynabo P.R. 00908 | October 19, 2001.
4134F | World Exchange, Inc., 8840 Bellanca Avenue, Los Angeles, CA 90045 | August 18, 2001.

Ronald D. Murphy,
Deputy Director, Bureau of Consumer Complaints and Licensing.

[FR Doc. 02-6745 Filed 3-19-02; 8:45 am]

BILLING CODE 6730-01-P